DEPARTMENT OF THE TREASURY

Office of Foreign Assets Control

31 CFR Part 583

Publication of Global Magnitsky Sanctions Regulations Web General Licenses 5 and 6

AGENCY: Office of Foreign Assets Control, Treasury.

ACTION: Publication of web general licenses.

SUMMARY: The Department of the Treasury's Office of Foreign Assets Control (OFAC) is publishing two general licenses (GLs) issued pursuant to the Global Magnitsky Sanctions Regulations: GLs 5 and 6, each of which was previously made available on OFAC's website.

DATES: GLs 5 and 6 were issued on January 26, 2023. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On January 26, 2023, OFAC issued GLs 5 and 6 to authorize certain transactions otherwise prohibited by the Global Magnitsky Sanctions Regulations, 31 CFR part 583. Each GL was made available on OFAC's website (www.treas.gov/ofac) when it was issued. Each GL was issued on January 26, 2023 and has an expiration date of March 27, 2023. The text of these GLs is provided below.

OFFICE OF FOREIGN ASSETS CONTROL

Global Magnitsky Sanctions Regulations

31 CFR Part 583

GENERAL LICENSE NO. 5

Authorizing Certain Transactions Related to Frigorifico Chajha S.A.E.

(a) Except as provided in paragraphs (d) and (e) of this general license, all transactions prohibited by the Global Magnitsky Sanctions Regulations, 31 CFR part 583 (GMSR), that are ordinarily incident and necessary to the divestment or transfer, or the facilitation of the divestment or transfer, of debt or equity of Frigorifico Chajha S.A.E. (Frigorifico Chajha), to a non-U.S. person are authorized through 12:01 a.m. eastern daylight time, March 27, 2023.

(b) Except as provided in paragraph (e) of this general license, all transactions prohibited by the GMSR that are ordinarily incident and necessary to facilitating, clearing, and settling trades of debt or equity of Frigorifico Chajha that were placed prior to 4:00 p.m. eastern standard time, January 26, 2023, are authorized through 12:01 a.m. eastern daylight time, March 27, 2023.

(c) Except as provided in paragraph (e) of this general license, all transactions prohibited by the GMSR that are ordinarily incident and necessary to the wind down of derivative contracts entered into prior to 4:00 p.m. eastern standard time, January 26, 2023, that (i) include Frigorifico Chajha as a counterparty or (ii) are linked to the debt or equity of Frigorifico Chajha are authorized through 12:01 a.m. eastern daylight time, March 27, 2023, provided that any payments to a blocked person are made into a blocked account in accordance with the GMSR.

(d) Paragraph (a) of this general license does not authorize:

(1) U.S. persons to sell, or to facilitate the sale of, debt or equity of Frigorifico Chajha to, directly or indirectly, any person whose property and interests in property are blocked; or

(2) U.S. persons to purchase or invest in, or to facilitate the purchase of or investment in, directly or indirectly, debt or equity of Frigorifico Chajha, other than purchases of or investments in debt or equity of Frigorifico Chajha that are ordinarily incident and necessary to the divestment or transfer of debt or equity of Frigorifico Chajha, as described in paragraph (a) of this general license.

(e) This general license does not authorize any transactions otherwise prohibited by the GMSR, including transactions involving any person blocked pursuant to the GMSR other than Frigorifico Chajha, unless separately authorized.

Andrea M. Gacki,

Director, Office of Foreign Assets Control.

Dated: January 26, 2023.

OFFICE OF FOREIGN ASSETS CONTROL

Global Magnitsky Sanctions Regulations

31 CFR Part 583

GENERAL LICENSE NO. 6

Authorizing the Wind Down of Transactions Involving Bebidas USA Inc., Tabacos USA Inc., Frigorifico Chajha S.A.E., Dominicana Acquisition S.A., or Certain Blocked Entities Owned by Horacio Manuel Cartes Jara

(a) Except as provided in paragraph (b) of this general license, all transactions prohibited by the Global Magnitsky Sanctions Regulations, 31 CFR part 583 (GMSR), that are ordinarily incident and necessary to the wind down of any transaction involving Bebidas USA Inc., Tabacos USA Inc., Frigorifico Chajha S.A.E., or Dominicana Acquisition S.A. (collectively, the “designated Cartes entities”), or any entity in which Horacio Manuel Cartes Jara or the designated Cartes entities own, directly or indirectly, a 50 percent or greater interest, are authorized through 12:01 a.m. eastern daylight time, March 27, 2023, provided that any payment to a blocked person must be made into a blocked account in accordance with the GMSR.

(b) This general license does not authorize any transactions otherwise prohibited by the GMSR, including transactions involving any person blocked pursuant to the GMSR other than the blocked entities described in paragraph (a) of this general license, unless separately authorized.

Andrea M. Gacki,

Director, Office of Foreign Assets Control.

Dated: January 26, 2023.

Andrea M. Gacki,
Director, Office of Foreign Assets Control.

[FR Doc. 2023-03865 Filed 2-23-23; 8:45 am]

BILLING CODE 4810-AL-P